DEPARTMENT OF COMMERCE

International Trade Administration

[C-469-818]

Ripe Olives From Spain: Final Results of the Expedited First Sunset Review of the Countervailing Duty Order

AGENCY: Enforcement and Compliance, International Trade Administration, Department of Commerce.

SUMMARY: The U.S. Department of Commerce (Commerce) finds that revocation of the countervailing duty (CVD) order on ripe olives from Spain would be likely to lead to continuation or recurrence of countervailable subsidies at the levels indicated in the “Final Results of Sunset Review” section of this notice.

DATES: Applicable November 3, 2023.

FOR FURTHER INFORMATION CONTACT: Bryan Hansen, AD/CVD Operations, Office I, Enforcement and Compliance, International Trade Administration, U.S. Department of Commerce, 1401 Constitution Avenue NW, Washington, DC 20230; telephone: (202) 482-3683.

SUPPLEMENTARY INFORMATION:

Background

On August 1, 2018, Commerce published in the Federal Register the CVD order on ripe olives from Spain.¹ On July 3, 2023, Commerce published in the Federal Register the Initiation Notice of the first five-year sunset review of the Order pursuant to section 751(c) of the Tariff Act of 1930, as amended (the Act).² In accordance with 19 CFR 351.218(d)(1)(i) and (ii), Commerce received a timely notice of intent to participate in this sunset review from Musco Family Olive Company (Musco), a domestic interested party, within 15 days after the date of publication of the Initiation Notice.³ Musco claimed interested party status under section 771(9)(C) of the Act as a producer of a domestic like product in the United States.⁴

¹ See Ripe Olives from Spain: Amended Final Affirmative Countervailing Duty Determination and Countervailing Duty Order, 83 FR 37469 (August 1, 2018) (Order).

² See Initiation of Five-Year (Sunset) Reviews, 88 FR 42688 (July 3, 2023) (Initiation Notice).

³ See Musco's Letter, “Notice of Intent to Participate,” dated July 5, 2023.

⁴ Id.

Commerce received a timely and adequate substantive response to the Initiation Notice from Musco within the 30-day period specified in 19 CFR 351.218(d)(3)(i).⁵ Commerce received no substantive responses from any other interested parties, including the Government of Spain, nor was a hearing requested. On August 22, 2023, Commerce notified the U.S. International Trade Commission that it did not receive an adequate substantive response from other interested parties.⁶ As a result, in accordance with section 751(c)(3)(B) of the Act and 19 CFR 351.218(e)(1)(ii)(C)(2), Commerce conducted an expedited, i.e., 120-day, sunset review of the Order.

⁵ See Musco's Letter, “Response to Notice of Initiation,” dated August 2, 2023 (Substantive Response).

⁶ See Commerce's Letter, “Sunset Reviews for July 2023,” dated August 22, 2023.

Scope of the Order

The products covered by the Order are certain processed olives, usually referred to as “ripe olives.” The subject merchandise includes all colors of olives; all shapes and sizes of olives, whether pitted or not pitted, and whether whole, sliced, chopped, minced, wedged, broken, or otherwise reduced in size; all types of packaging, whether for consumer (retail) or institutional (food service) sale, and whether canned or packaged in glass, metal, plastic, multi-layered airtight containers (including pouches), or otherwise; and all manners of preparation and preservation, whether low acid or acidified, stuffed or not stuffed, with or without flavoring and/or saline solution, and including in ambient, refrigerated, or frozen conditions.

For a full description of the scope of the Order, see the Issues and Decision Memorandum.⁷

⁷ See Memorandum, “Issues and Decision Memorandum for the Final Results of the Expedited First Sunset Review of the Countervailing Duty Order on Ripe Olives from Spain,” dated concurrently with, and hereby adopted by, this notice (Issues and Decision Memorandum).

Analysis of Comments Received

All issues raised in this sunset review are addressed in the Issues and Decision Memorandum. A list of topics discussed in the Issues and Decision Memorandum is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would be likely to lead to continuation or recurrence of a countervailable subsidy at the following net countervailable subsidy rates:

⁸ See Ripe Olives from Spain: Final Affirmative Countervailing Duty Determination, 83 FR 28186 (June 18, 2018) (Final Determination). Commerce found the following companies to be cross-owned with Aceitunas Guadalquivir S.L.U.: Coromar Inv., S.L., AG Explotaciones Agricolas, S.L.U., and Grupo Aceitunas Guadalquivir, S.L. See Ripe Olives from Spain: Preliminary Affirmative Countervailing Duty Determination, and Alignment of Final Determination With Final Antidumping Duty Determination, 82 FR 56218 (November 28, 2017) (Investigation Preliminary Determination), and accompanying Preliminary Decision Memorandum (PDM) at 9, unchanged in Final Determination.

⁹ Commerce found the following companies to be cross-owned with Angel Camacho Alimentación, S.L.: Grupo Angel Camacho Alimentación, Cuarterola S.L., and Cucanoche S.L. See Investigation Preliminary Determination PDM at 11, unchanged in Final Determination.

Exporter/producer | Subsidy rate (percent ad valorem)
Aceitunas Guadalquivir S.L.U.⁸ | 11.87
Agro Sevilla Aceitunas S.Coop.And | 7.64
Angel Camacho Alimentación, S.L.⁹ | 13.90
All Others | 11.32

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results and notice in accordance with sections 751(c), 752(b), and 777(i)(1) of the Act, and 19 CFR 351.218.

Dated: October 30, 2023.
Lisa W. Wang,
Assistant Secretary for Enforcement and Compliance.

Appendix I

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Likely To Prevail

3. Nature of the Subsidy

VII. Final Results of Sunset Review

VIII. Recommendation

[FR Doc. 2023-24355 Filed 11-2-23; 8:45 am]

BILLING CODE 3510-DS-P